SUSQUEHANNA RIVER BASIN COMMISSION

Notice of Projects Approved for Consumptive Uses of Water

AGENCY: Susquehanna River Basin Commission.

ACTION: Notice of approved projects.

SUMMARY: This notice lists the projects approved by rule by the Susquehanna River Basin Commission during the period set forth in DATES.

DATES: November 1, 2009, through December 31, 2009.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Approvals Issued

Approvals By Rule Issued Under 18 CFR 806.22(e):

1. Tyco Electronics Corporation, Lickdale Facility, ABR-20091222, Union Township, Lebanon County, Pa.; Consumptive Use of up to 0.080 mgd; Approval Date: December 18, 2009.

Approvals By Rule Issued Under 18 CFR 806.22(f):

1. East Resources, Inc., Pad ID: Stehmer 420, ABR-20091101, Delmar Township, Tioga County, Pa.; Consumptive Use of up to 4.000 mgd; Approval Date: November 15, 2009.

2. East Resources, Inc., Pad ID: Johnson 435, ABR-20091102, Shippen Township, Tioga County, Pa.; Consumptive Use of up to 4.000 mgd; Approval Date: November 16, 2009.

3. J-W Operating Company, Pad ID: Pardee & Curtin Lumber Co. C-09H, ABR-20091103, Shippen Township, Cameron County, Pa.; Consumptive Use of up to 4.500 mgd; Approval Date: November 16, 2009.

4. Citrus Energy, Pad ID: Procter & Gamble Mehoopany Plant 2 1H, ABR-20091104, Washington Township, Wyoming County, Pa.; Consumptive Use of up to 5.000 mgd; Approval Date: November 16, 2009.

5. Fortuna Energy, Inc., Pad ID: Eick 013, ABR-20091105; Columbia Township, Bradford County, Pa.; Consumptive Use of up to 3.000 mgd; Approval Date: November 16, 2009.

6. East Resources, Inc., Pad ID: Brown 425, ABR-20091106, Delmar Township, Tioga County, Pa.; Consumptive Use of up to 4.000 mgd; Approval Date: November 16, 2009.

7. East Resources, Inc., Pad ID: Barrett 410, ABR-20091107, Jackson Township, Tioga County, Pa.; Consumptive Use of up to 4.000 mgd; Approval Date: November 16, 2009.

8. East Resources, Inc., Pad ID: Starks 461, ABR-20091108, Richmond Township, Tioga County, Pa.; Consumptive Use of up to 4.000 mgd; Approval Date: November 16, 2009.

9. Chesapeake Appalachia, LLC, Pad ID: Doss, ABR-20091109, Albany Township, Bradford County, Pa.; Consumptive Use of up to 7.500 mgd; Approval Date: November 16, 2009.

10. East Resources, Inc., Pad ID: Yungwirth 307, ABR-20091110, Charleston Township, Tioga County, Pa.; Consumptive Use of up to 4.000 mgd; Approval Date: November 16, 2009.

11. East Resources, Inc., Pad ID: West 299, ABR-20091111, Richmond Township, Tioga County, Pa.; Consumptive Use of up to 4.000 mgd; Approval Date: November 16, 2009.

12. Chesapeake Appalachia, LLC, Pad ID: CSI, ABR-20091112, Burlington Township, Bradford County, Pa.; Consumptive Use of up to 7.500 mgd; Approval Date: November 16, 2009.

13. East Resources, Inc., Pad ID: Button 402, ABR-20091113, Jackson Township, Tioga County, Pa.; Consumptive Use of up to 4.000 mgd; Approval Date: November 16, 2009.

14. EXCO-North Coast Energy, Inc., Pad ID: Fidatti-Bianconi, ABR-20091114, Scott Township, Lackawanna County, Pa.; Consumptive Use of up to 2.000 mgd; Approval Date: November 16, 2009.

15. Chief Oil & Gas, LLC, Pad ID: Teel Unit #1H, ABR-20091115, Springville Township, Susquehanna County, Pa.; Consumptive Use of up to 5.000 mgd; Approval Date: November 16, 2009.

16. EOG Resources, Inc., Pad ID: Guinan IV, ABR-20091116, Springfield Township, Bradford County, Pa.; Consumptive Use of up to 0.999 mgd; Approval Date: November 18, 2009.

17. EOG Resources, Inc., Pad ID: Guinan 2H, ABR-20091117, Springfield Township, Bradford County, Pa.; Consumptive Use of up to 1.999 mgd; Approval Date: November 18, 2009.

18. Pennsylvania General Energy Company, L.L.C., Pad ID: COP Tract 724—Pad A, ABR-20091118, Gamble Township, Lycoming County, Pa.; Consumptive Use of up to 2.000 mgd; Approval Date: November 19, 2009, including a partial waiver of 18 CFR Section 806.15.

19. EOG Resources, Inc., Pad ID: Hoppaugh 1V, ABR-20091119, Springfield Township, Bradford County, Pa.; Consumptive Use of up to 0.999 mgd; Approval Date: November 20, 2009.

20. EOG Resources, Inc., Pad ID: Hoppaugh 2H, ABR-20091120, Springfield Township, Bradford County, Pa.; Consumptive Use of up to 1.999 mgd; Approval Date: November 23, 2009.

21. EOG Resources, Inc., Pad ID: Hoppaugh 3H, ABR-20091121, Springfield Township, Bradford County, Pa.; Consumptive Use of up to 1.999 mgd; Approval Date: November 23, 2009.

22. EOG Resources, Inc., Pad ID: Lee 1H, ABR-20091122, Springfield Township, Bradford County, Pa.; Consumptive Use of up to 1.999 mgd; Approval Date: November 23, 2009.

23. EOG Resources, Inc., Pad ID: Lee 2H, ABR-20091123, Springfield Township, Bradford County, Pa.; Consumptive Use of up to 1.999 mgd; Approval Date: November 23, 2009.

24. EOG Resources, Inc., Pad ID: Lee 2H, ABR-20091124, Springfield Township, Bradford County, Pa.; Consumptive Use of up to 1.999 mgd; Approval Date: November 23, 2009.

25. Rice Drilling B LLC, Pad ID: Ultimate Warrior #1, ABR-20091125, Upper Fairfield Township, Lycoming County, Pa.; Consumptive Use of up to 1.000 mgd; Approval Date: November 30, 2009.

26. Chief Oil & Gas, LLC, Pad ID: Hodge Unit Drilling Pad #1, ABR-20091201, Juniata Township, Blair County, Pa.; Consumptive Use of up to 5.000 mgd; Approval Date: December 1, 2009.

27. Citrus Energy Corporation, Pad ID: Martin #1V, ABR-20091202, Sugarloaf Township, Columbia County, Consumptive Use of up to 5.000 mgd; Approval Date: December 1, 2009.

28. XTO Energy Incorporated, Pad ID: Jenzano, ABR-20090713.1, Franklin Township, Lycoming County, Pa.; Consumptive Use total of up to 3.000 mgd; Approval Date: December 1, 2009.

29. EOG Resources, Inc., Pad ID: Houseknecht 1H, ABR-20090423.1, Springfield Township, Bradford County, Pa.; Consumptive Use total of up to 1.999 mgd; Approval Date: December 2, 2009.

30. EOG Resources, Inc., Pad ID: Ward M 1H, ABR-20090421.1, Springfield Township, Bradford County, Pa.; Consumptive Use total of up to 1.990 mgd; Approval Date: December 2, 2009.

31. EOG Resources, Inc., Pad ID: Jones IV, ABR-20091203, Springfield Township, Bradford County, Pa.; Consumptive Use of up to 0.999 mgd; Approval Date: December 2, 2009.

32. Chief Oil & Gas, LLC, Pad ID: Teel Unit Drilling Pad #2H, ABR-20091204, Springville Township, Susquehanna County, Pa.; Consumptive Use of up to 2.000 mgd; Approval Date: December 3, 2009.

33. Chief Oil & Gas, LLC, Pad ID: Teel Unit Drilling Pad #3H, ABR-20091205, Springville Township, Susquehanna County, Pa.; Consumptive Use of up to 2.000 mgd; Approval Date: December 3, 2009.

34. East Resources, Inc., Pad ID: Chapman 237, ABR-20091206, Sullivan Township, Tioga County, Pa.; Consumptive Use of up to 4.000 mgd; Approval Date: December 8, 2009.

35. East Resources, Inc., Pad ID: Houck 433, ABR-20091207, Shippen Township, Tioga County, Pa.; Consumptive Use of up to 4.000 mgd; Approval Date: December 9, 2009.

36. Chesapeake Appalachia, LLC, Pad ID: Stoorza, ABR-20091208, Terry Township, Bradford County, Pa.; Consumptive Use of up to 7.500 mgd; Approval Date: December 9, 2009.

37. Chesapeake Appalachia, LLC, Pad ID: Roger, ABR-20091209, Auburn Township, Susquehanna County, Pa.; Consumptive Use of up to 7.500 mgd; Approval Date: December 9, 2009.

38. Chesapeake Appalachia, LLC, Pad ID: Readinger, ABR-20091210, West Burlington Township, Bradford County, Pa.; Consumptive Use of up to 7.500 mgd; Approval Date: December 9, 2009.

39. Chesapeake Appalachia, LLC, Pad ID: Miller, ABR-20091211, Towanda Township, Bradford County, Pa.; Consumptive Use of up to 7.500 mgd; Approval Date: December 9, 2009.

40. Chesapeake Appalachia, LLC, Pad ID: Grippo, ABR-20091212, Terry Township, Bradford County, Pa.; Consumptive Use of up to 7.500 mgd; Approval Date: December 9, 2009.

41. Chesapeake Appalachia, LLC, Pad ID: Duffield, ABR-20091213, Tuscarora Township, Bradford County, Pa.; Consumptive Use of up to 7.500 mgd; Approval Date: December 9, 2009.

42. Chief Oil & Gas, LLC, Pad ID: Clear Springs Dairy Drilling Pad #1, ABR-20091214, Burlington Township, Bradford County, Pa.; Consumptive Use of up to 5.000 mgd; Approval Date: December 14, 2009.

43. East Resources, Inc., Pad ID: Jenkins 523, ABR-20091215, Rutland Township, Tioga County, Pa.; Consumptive Use of up to 4.000 mgd; Approval Date: December 14, 2009.

44. East Resources, Inc., Pad ID: Pannebaker 515, ABR-20091216, Rutland Township, Tioga County, Pa.; Consumptive Use of up to 4.000 mgd; Approval Date: December 14, 2009.

45. East Resources, Inc., Pad ID: Starks 460, ABR-20091217, Richmond Township, Tioga County, Pa.; Consumptive Use of up to 4.000 mgd; Approval Date: December 14, 2009.

46. East Resources, Inc., Pad ID: Oldroyd 509, ABR-20091218, Rutland Township, Tioga County, Pa.; Consumptive Use of up to 4.000 mgd; Approval Date: December 14, 2009.

47. XTO Energy Incorporated, Pad ID: Hazlak, ABR-20090715.1, Franklin Township, Lycoming County, Pa.; Consumptive Use total of up to 3.000 mgd; Approval Date: December 14, 2009.

48. XTO Energy Incorporated, Pad ID: Temple, ABR-20090714.1, Moreland Township, Lycoming County, Pa.; Consumptive Use total of up to 3.000 mgd; Approval Date: December 14, 2009.

49. EOG Resources, Inc., Pad ID: Harkness 1V, ABR-20091219, Springfield Township, Bradford County, Pa.; Consumptive Use of up to 0.999 mgd; Approval Date: December 14, 2009.

50. EOG Resources, Inc., Pad ID: Harkness 2H, ABR-20091220, Springfield Township, Bradford County, Pa.; Consumptive Use of up to 1.999 mgd; Approval Date: December 14, 2009.

51. EOG Resources, Inc., Pad ID: Harkness 3H, ABR-20091221, Springfield Township, Bradford County, Pa.; Consumptive Use of up to 1.999 mgd; Approval Date: December 14, 2009.

52. Seneca Resources Corporation, Pad ID: T. Wivell Horizontal Pad, ABR-20090814.1, Covington Township, Tioga County, Pa.; Consumptive Use total of up to 4.000 mgd; Approval Date: December 18, 2009.

53. Cabot Oil & Gas Corporation, Pad ID: HibbardAM P1, ABR-20091223, Dimock Township, Susquehanna County, Pa.; Consumptive Use of up to 3.575 mgd; Approval Date: December 21, 2009.

54. Cabot Oil & Gas Corporation, Pad ID: HibbardAM P2, ABR-20091224, Dimock Township, Susquehanna County, Pa.; Consumptive Use of up to 3.575 mgd; Approval Date: December 21, 2009.

55. XTO Energy Incorporated, Pad ID: King Unit, ABR-20091225, Shrewsbury Township, Lycoming County, Pa.; Consumptive Use of up to 3.000 mgd; Approval Date: December 22, 2009.

56. XTO Energy Incorporated, Pad ID: Booth, ABR-20091226, Shrewsbury Township, Lycoming County, Pa.; Consumptive Use of up to 4.000 mgd; Approval Date: December 28, 2009.

57. Seneca Resources Corporation, Pad ID: Rich Valley 1V Pad, ABR-20091227, Shippen Township, Cameron County, Pa.; Consumptive Use of up to 0.500 mgd; Approval Date: December 28, 2009.

58. Citrus Energy Corporation, Pad ID: Farver #1V, ABR-20091228, Benton Township, Columbia County, Pa.; Consumptive Use of up to 5.000 mgd; Approval Date: December 28, 2009.

59. Seneca Resources Corporation, Pad ID: Wolfinger, ABR-20091229, Shippen Township, Cameron County, Pa.; Consumptive Use of up to 0.500 mgd; Approval Date: December 28, 2009, including a partial waiver of 18 CFR Section 806.15.

60. Ultra Resources, Inc., Pad ID: Marshlands H. Bergey Unit #1, ABR-20091230, Gaines Township, Tioga County, Pa.; Consumptive Use of up to 4.990 mgd; Approval Date: December 29, 2009.

61. Ultra Resources, Inc., Pad ID: Marshlands K. Thomas Unit #1, ABR-20091231, Elk Township, Tioga County, Pa.; Consumptive Use of up to 4.990 mgd; Approval Date: December 29, 2009.

62. Ultra Resources, Inc., Pad ID: Lick Run Pad, ABR-20091232, Gaines Township, Tioga County, Pa.; Consumptive Use of up to 4.990 mgd; Approval Date: December 29, 2009.

63. Ultra Resources, Inc., Pad ID: Hillside Pad, ABR-20091233, Gaines Township, Tioga County, Pa.; Consumptive Use of up to 4.990 mgd; Approval Date: December 29, 2009.

64. Ultra Resources, Inc., Pad ID: Button B 901 Pad, ABR-20091234, West Branch Township, Tioga County, Pa.; Consumptive Use of up to 4.990 mgd; Approval Date: December 29, 2009.

65. EOG Resources, Inc., Pad ID: Kenyon 1V, ABR-20091235, Springfield Township, Bradford County, Pa.; Consumptive Use of up to 0.999 mgd; Approval Date: December 29, 2009.

Authority: Pub. L. 91-575, 84 Stat. 1509 et seq., 18 CFR parts 806, 807, and 808.

Dated: January 19, 2010.
Stephanie L. Richardson,
Secretary to the Commission.

[FR Doc. 2010-1782 Filed 1-28-10; 8:45 am]

BILLING CODE 7040-01-P